DEPARTMENT OF HOMELAND SECURITY

Federal Emergency Management Agency

44 CFR Part 67

[Docket ID FEMA-2011-0002; Internal Agency Docket No. FEMA-B-7748]

Proposed Flood Elevation Determinations

AGENCY: Federal Emergency Management Agency, DHS.

ACTION: Proposed rule; correction.

SUMMARY: On December 6, 2007, FEMA published in the Federal Register a proposed rule that contained an erroneous table. This document provides corrections to that table, to be used in lieu of the information published December 6, 2007. The table provided in this document represents the flooding sources, location of referenced elevations, effective and modified elevations, and communities affected for Pierce County, Washington, and Incorporated Areas. Specifically, it addresses the following flooding sources: Artondale Creek (main stem), Artondale Creek—East Branch, Artondale Creek—West Branch, Canyon Creek, Carbon River (left overbank areas, without consideration of left levees), Carbon River Overflow, Clarks Creek, Clear Creek, Clover Creek, Clover Creek (overflow at 134th Street South), Clover Creek (overflow at designated parkland), Clover Creek (overflow at golf course), Clover Creek (overflow near Lakewood Town Center), Crescent Creek, Crescent Lake, Diru Creek, Diru Creek (104th Street East overflow), Diru Creek (96th Street East overflow), East Fork Clear Creek, East Fork Clear Creek (west stem), Fennel Creek, Gig Harbor, Lacamas Creek, Mashel River, Meeker Ditch, Morey Creek, North Fork Clover Creek, North Fork Clover Creek Tributary #1, North Fork Clover Creek Tributary #2, North Fork Clover Creek Tributary #4, North Fork Clover Creek Tributary #5, Puyallup River (overflow through golf course between State Route 162 and Puyallup River), Puyallup River (overflow through golf course to Hylebos Waterway), Puyallup River (overflows to Blair Waterway via numerous flow paths), Puyallup River (with consideration of levees), Puyallup River (without consideration of left levee), Puyallup River (without consideration of right levee), Rody Creek, South Prairie Creek, Spanaway Creek, Swan Creek, Wapato Creek I, Wapato Creek II, West Fork Canyon Creek, White River, Woodland Creek, Woodland Creek (80th Street East overflow), and Woodland Creek (96th Street East overflow).

DATES: Comments are to be submitted on or before July 16, 2012.

ADDRESSES: You may submit comments, identified by Docket No. FEMA-B-7748, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 72 FR 68784, in the December 6, 2007, issue of the Federal Register, FEMA published a table under the authority of 44 CFR 67.4. The table, entitled “Pierce County, Washington, and Incorporated Areas,” addressed the following flooding sources: Artondale Creek (main stem), Artondale Creek—East Branch, Artondale Creek—West Branch, Canyon Creek, Carbon River, Clarks Creek, Clarks Creek—Meeker Ditch, Clover Creek, Crescent Creek, Fennel Creek, Lacamas Creek, Mashel River, Morey Creek, Muck Creek, North Fork Clover Creek, North Fork Clover Creek Tributary #1, North Fork Clover Creek Tributary #2, North Fork Clover Creek Tributary #4, North Fork Clover Creek Tributary #5, Puyallup River, South Prairie Creek, Spanaway Creek, Swan Creek, Wapato Creek I, Wapato Creek II, and White River. That table contained inaccurate information as to the location of referenced elevation, effective and modified elevation in feet, and/or communities affected for the following flooding sources: Artondale Creek (main stem), Artondale Creek—East Branch, Artondale Creek—West Branch, Canyon Creek, Carbon River, Clarks Creek, Clarks Creek—Meeker Ditch, Clover Creek, Crescent Creek, Fennel Creek, Lacamas Creek, Mashel River, Morey Creek, North Fork Clover Creek, North Fork Clover Creek Tributary #1, North Fork Clover Creek Tributary #2, North Fork Clover Creek Tributary #4, North Fork Clover Creek Tributary #5, Puyallup River, South Prairie Creek, Spanaway Creek, Swan Creek, Wapato Creek I, Wapato Creek II, and White River. It also should not have included the flooding source Muck Creek. In addition, it did not include the following flooding sources: Carbon River (left overbank areas, without consideration of left levees), Carbon River Overflow, Clear Creek, Clover Creek (overflow at 134th Street South), Clover Creek (overflow at designated parkland), Clover Creek (overflow at golf course), Clover Creek (overflow near Lakewood Town Center), Crescent Lake, Diru Creek, Diru Creek (104th Street East overflow), Diru Creek (96th Street East overflow), East Fork Clear Creek, East Fork Clear Creek (west stem), Gig Harbor, Meeker Ditch, Puyallup River (overflow through golf course between State Route 162 and Puyallup River), Puyallup River (overflow through golf course to Hylebos Waterway), Puyallup River (overflows to Blair Waterway via numerous flow paths), Puyallup River (with consideration of levees), Puyallup River (without consideration of left levee), Puyallup River (without consideration of right levee), Rody Creek, West Fork Canyon Creek, Woodland Creek, Woodland Creek (80th Street East overflow), and Woodland Creek (96th Street East overflow). Specifically, the information published in the December 6, 2007, Federal Register proposed rule for the Carbon River has been refined and divided into individual descriptions for Carbon River (left overbank areas, without consideration of left levees) and Carbon River Overflow; the information published in the December 6, 2007, Federal Register proposed rule for the Puyallup River has been refined and divided into individual descriptions for Puyallup River (overflow through golf course between State Route 162 and Puyallup River), Puyallup River (overflow through golf course to Hylebos Waterway), Puyallup River (overflows to Blair Waterway via numerous flow paths), Puyallup River (with consideration of levees), Puyallup River (without consideration of left levee), and Puyallup River (without consideration of right levee); and the information published in the December 6, 2007, Federal Register proposed rule for Clarks Creek and Clarks Creek—Meeker Ditch has been refined and divided into individual descriptions for Clarks Creek and Meeker Ditch. These individual descriptions provide a more detailed representation of changes than originally described for the flooding sources Carbon River, Clarks Creek, Meeker Ditch, and Puyallup River in the December 6, 2007, Federal Register proposed rule. In this document, FEMA is publishing a table containing the accurate information, to address these prior errors. The information provided below should be used in lieu of that previously published for Pierce County.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Pierce County, Washington, and Incorporated Areas
Artondale Creek (main stem) | Approximately 100 feet upstream of the Wollochet Drive culvert | None | +13 | City of Fife, Unincorporated Areas of Pierce County.
| Approximately 200 feet downstream of the Artondale Creek—East Branch and Artondale Creek—West Branch confluences | None | +39
Artondale Creek—East Branch | Approximately 320 feet upstream of the Artondale Creek (main stem) and Artondale Creek—West Branch confluences | None | +40 | Unincorporated Areas of Pierce County.
| Approximately 80 feet downstream of Hunt Street Northwest | None | +152
Artondale Creek—West Branch | At the Artondale Creek—East Branch and Artondale Creek (main stem) confluences | None | +39 | Unincorporated Areas of Pierce County.
| Approximately in line with 56th Street Northwest extended, between 78th Avenue Northwest and 72nd Avenue Northwest | None | +49
Canyon Creek | Approximately 130 feet upstream of 72nd Street | None | +279 | Unincorporated Areas of Pierce County.
| Approximately 250 feet downstream of 128th Street East | None | +475
Carbon River (left overbank areas, without consideration of left levees) | At the Puyallup River confluence | +121 | +122 | City of Orting, Unincorporated Areas of Pierce County.
| Approximately 1,000 feet upstream of the 177th Street East turnaround | None | +460
Carbon River Overflow | Approximately 1.2 miles upstream of 226th Street East along 177th Street East and Alward Road | None | #3 | Unincorporated Areas of Pierce County.
Clarks Creek | At the Puyallup River confluence | None | +30 | City of Puyallup, Unincorporated Areas of Pierce County.
| Approximately 195 feet west of the west end of 15th Avenue Southwest | +31 | +32
Clear Creek | From the Puyallup River confluence to the water treatment plant near the intersection of Pioneer Way East and 44th Avenue East | +17 | +24 | Unincorporated Areas of Pierce County.
Clover Creek | At the Steilacoom Lake confluence | +215 | +214 | City of Lakewood, Unincorporated Areas of Pierce County.
| At the downstream side of 71st Avenue East | None | +344
Clover Creek (overflow at 134th Street South) | At the upstream side of A Street South | +308 | +307 | Unincorporated Areas of Pierce County.
| Approximately 116 feet downstream of the intersection of B Street East and 134th Street Court East | +308 | +309
Clover Creek (overflow at designated parkland) | At the Clover Creek confluence | None | +297 | Unincorporated Areas of Pierce County.
| At the downstream side of 4th Avenue East | +313 | +312
Clover Creek (overflow at golf course) | At the North Fork Clover Creek confluence (in Mayfair County Park) | None | +319 | Unincorporated Areas of Pierce County.
| Approximately 740 feet downstream of the Clover Creek confluence | None | +320
Clover Creek (overflow near Lakewood Town Center) | At the upstream side of 111th Street Southwest | None | +261 | City of Lakewood.
| At the divergence from Clover Creek (between Lindale Lane Southwest and Cochise Lane Southwest) | None | +268
Crescent Creek | At the Gig Harbor confluence | None | +12 | City of Gig Harbor, Unincorporated Areas of Pierce County.
| Approximately 1,050 feet downstream of Crescent Valley Drive Northwest | None | +172
Crescent Lake | Entire shoreline within community | None | +173 | Unincorporated Areas of Pierce County.
Diru Creek | At the upstream side of 84th Street East | None | +335 | Unincorporated Areas of Pierce County.
| At the downstream side of 128th Street East | None | +468
Diru Creek (104th Street East overflow) | Approximately 530 feet upstream of 104th Street East | None | +414 | Unincorporated Areas of Pierce County.
| Approximately 317 feet downstream of State Route 512 | None | +448
Diru Creek (96th Street East overflow) | At the downstream side of 96th Street East | None | +398 | Unincorporated Areas of Pierce County.
| Approximately 155 feet upstream of 96th Street East | None | +400
East Fork Clear Creek | Approximately 200 feet south of 72nd Street East | None | +352 | Unincorporated Areas of Pierce County.
| At the downstream side of 105th Street East | None | +453
East Fork Clear Creek (west stem) | Approximately 500 feet downstream of 96th Street East | None | +425 | Unincorporated Areas of Pierce County.
| Approximately 75 feet downstream of State Route 512 | None | +453
Fennel Creek | Approximately 100 feet downstream of McCutcheon Road | None | +105 | City of Bonney Lake, Unincorporated Areas of Pierce County.
| At the upstream side of Kelley Lake Road | None | +505
Gig Harbor | Entire shoreline within community | None | +12 | City of Gig Harbor, Unincorporated Areas of Pierce County.
Lacamas Creek | Approximately 1,300 feet downstream of State Route 507, near the southeast corner of Muck Lake | +322 | +324 | City of Roy, Unincorporated Areas of Pierce County.
| Approximately 600 feet south of 304th Street South | +473 | +474
Mashel River | At the upstream side of Private Road, 1,600 feet upstream of the Little Mashel River confluence | +739 | +738 | Town of Eatonville, Unincorporated Areas of Pierce County.
| Approximately 0.54 mile upstream of Alder Cutoff Road East | +862 | +866
Meeker Ditch | At the upstream side of 17th Street Southwest | #1 | +31 | City of Puyallup.
| Approximately 266 feet downstream of Fairview Drive | None | +38
Morey Creek | Approximately 180 feet upstream of the Clover Creek confluence | None | +293 | Unincorporated Areas of Pierce County.
| Approximately 140 feet upstream of Spanaway Loop Road | None | +300
North Fork Clover Creek | Approximately 115 feet downstream of B Street East | +307 | +309 | City of Lakewood, City of Tacoma, Unincorporated Areas of Pierce County.
| At the upstream side of 96th Street East | None | +391
North Fork Clover Creek Tributary #1 | Approximately 270 feet upstream of the intersection of 14th Avenue East and North Fork Clover Creek | +323 | +321 | Unincorporated Areas of Pierce County.
| Approximately 600 feet downstream of Bingham Avenue East | None | +457
North Fork Clover Creek Tributary #2 | At the upstream side of the North Fork Clover Creek confluence | None | +327 | Unincorporated Areas of Pierce County.
| At the upstream side of the Tacoma Rail Mountain Division railroad, approximately 450 feet north of the Waller Road railroad crossing | None | +397
North Fork Clover Creek Tributary #4 | Approximately 0.5 mile downstream of 22nd Avenue Court East | None | +363 | Unincorporated Areas of Pierce County.
| Approximately 1,050 feet upstream of 22nd Avenue Court East | None | +402
North Fork Clover Creek Tributary #5 | At the upstream side of Aqueduct Drive East | None | +368 | Unincorporated Areas of Pierce County.
| Approximately 1,320 feet upstream of Aqueduct Drive East | None | +368
Puyallup River (overflow through golf course between State Route 162 and Puyallup River) | Approximately 90 feet upstream of 140th Street East | +128 | +127 | City of Orting, Unincorporated Areas of Pierce County.
| At the downstream side of Lane Boulevard Northwest | None | +164
Puyallup River (overflow through golf course to Hylebos Waterway) | At the Hylebos Creek confluence | None | +14 | City of Fife, City of Tacoma, Unincorporated Areas of Pierce County.
| At the upstream side of 12th Street East | None | +16
Puyallup River (overflows to Blair Waterway via numerous flow paths) | At the Blair Waterway confluence | None | +12 | City of Fife, City of Tacoma.
| At the upstream side of the I-5 ramp to Port of Tacoma Road | None | +18
Puyallup River (with consideration of levees) | At the Commencement Bay confluence | +13 | +12 | City of Fife, City of Orting, City of Puyallup, City of Sumner, Unincorporated Areas of Pierce County.
| Approximately 1.0 mile upstream of the Burlington Northern Railroad/Champion Bridge | +633 | +634
Puyallup River (without consideration of left levee) | At the Tacoma City Waterway confluence | None | +12 | City of Orting, City of Puyallup, City of Tacoma, Unincorporated Areas of Pierce County.
| At the southern end of 169th Avenue East | +501 | +498
Puyallup River (without consideration of right levee) | At the upstream side of I-5 | None | +17 | City of Edgewood, City of Fife, City of Puyallup, City of Sumner, City of Tacoma, Unincorporated Areas of Pierce County.
| Approximately 700 feet south of the southern end of Neadham Road East | None | +446
Rody Creek | At the Clarks Creek confluence (at 66th Avenue East) | None | +30 | Unincorporated Areas of Pierce County.
| Approximately 70 feet downstream of 128th Street East | None | +452
South Prairie Creek | At the Carbon River confluence | +301 | +302 | Town of South Prairie, Unincorporated Areas of Pierce County.
| Approximately 2,000 feet upstream of State Route 162 | +452 | +449
Spanaway Creek | Approximately 55 feet upstream of Spanaway Loop Road South | +287 | +286 | Unincorporated Areas of Pierce County.
| Approximately 355 feet upstream of Military Road South | +323 | +325
Swan Creek | At the upstream side of Pioneer Way East | None | +22 | City of Tacoma, Unincorporated Areas of Pierce County.
| At the upstream side of 112th Street East | None | +419
Wapato Creek I | Approximately 125 feet upstream of Marshall Avenue | None | +12 | City of Edgewood, City of Fife, City of Puyallup, City of Tacoma, Unincorporated Areas of Pierce County.
| Approximately 120 feet upstream of 7th Street Northwest | None | +40
Wapato Creek II | Approximately 500 feet north of Valley Avenue Northeast and approximately 670 feet east of North Meridian Avenue | None | +49 | City of Edgewood, City of Puyallup, Unincorporated Areas of Pierce County.
| Approximately 1,825 feet upstream of 114th Avenue Court East | +53 | +56
West Fork Canyon Creek | At the Canyon Creek confluence | None | +387 | Unincorporated Areas of Pierce County.
| Approximately 400 feet upstream of 116th Street East | None | +464
White River | Approximately 380 feet downstream of State Route 410 | +47 | +51 | City of Puyallup, City of Sumner, Unincorporated Areas of Pierce County.
| Approximately 0.4 mile upstream of 8th Street East | None | +74
Woodland Creek | At the Clarks Creek confluence | None | +30 | Unincorporated Areas of Pierce County.
| At the downstream side of 106th Street East | None | +411
Woodland Creek (80th Street East overflow) | At the Woodland Creek confluence | None | +35 | Unincorporated Areas of Pierce County.
| At the upstream side of 80th Street East | None | +96
Woodland Creek (96th Street East overflow) | At the Woodland Creek divergence | None | +305 | Unincorporated Areas of Pierce County.
| At the downstream side of the Woodland Creek confluence | None | +346
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Bonney Lake
Maps are available for inspection at the City Hall Annex, 8720 Main Street East, Bonney Lake, WA 98391.
City of Edgewood
Maps are available for inspection at City Hall, 2224 104th Avenue East, Edgewood, WA 98372.
City of Fife
Maps are available for inspection at City Hall, 5411 23rd Street East, Fife, WA 98424.
City of Gig Harbor
Maps are available for inspection at City Hall, Building Department, 3510 Grandview Street, Gig Harbor, WA 98335.
City of Lakewood
Maps are available for inspection at City Hall, Public Works Department, 6000 Main Street Southwest, Lakewood, WA 98499.
City of Orting
Maps are available for inspection at City Hall, 110 Train Street Southeast, Orting, WA 98360.
City of Puyallup
Maps are available for inspection at City Hall, Development Services Department, 333 South Meridian, Puyallup, WA 98371.
City of Roy
Maps are available for inspection at City Hall, 216 McNaught Street South, Roy, WA 98580.
City of Sumner
Maps are available for inspection at City Hall, Community Development Department, 1104 Maple Street, Sumner, WA 98390.
City of Tacoma
Maps are available for inspection at City Hall, Building and Land Use Department, 747 Market Street, Tacoma, WA 98402.
Town of Eatonville
Maps are available for inspection at the Town Hall, 201 Center Street West, Eatonville, WA 98328.
Town of South Prairie
Maps are available for inspection at City Hall, 121 Northwest Washington Street, South Prairie, WA 98385.
Unincorporated Areas of Pierce County
Maps are available for inspection at the Pierce County Surface Water Management Division, Tacoma Mall Plaza, 2702 South 42nd Street, Suite 201, Tacoma, WA 98409.

(Catalog of Federal Domestic Assistance No. 97.022, “Flood Insurance.”)

Dated: April 2, 2012.
Sandra K. Knight,
Deputy Associate Administrator for Mitigation, Department of Homeland Security, Federal Emergency Management Agency.

[FR Doc. 2012-8870 Filed 4-13-12; 8:45 am]

BILLING CODE 9110-12-P